DEPARTMENT OF DEFENSE

Department of the Air Force

Record of Decision for the Environmental Impact Statement T-7A Recapitalization at Columbus AFB, MS

ACTION: Notice of availability of record of decision.

SUMMARY: On August 19, 2024, the Department of the Air Force (DAF) signed the Record of Decision (ROD) for the T-7A Recapitalization at Columbus AFB, MS, Environmental Impact Statement.

ADDRESSES: Ms. Chinling Chen (AFCEC/CIE), Headquarters AETC Public Affairs; 100 H East Street, Suite 4; Randolph AFB, TX 78150. (210) 395-0979; chinling.chen@us.af.mil.

SUPPLEMENTARY INFORMATION: The DAF has decided to replace all T-38C aircraft at Columbus AFB with up to 77 T-7A aircraft and continue flying training programs at Columbus AFB, MS.

The DAF decision documented in the ROD was based on matters discussed in the Final Environmental Impact Statement, inputs from the public and regulatory agencies, and other relevant factors. The Final Environmental Impact Statement was made available to the public on May 3, 2024 through a Notice of Availability in the Federal Register (Volume 89, Number 87, Page 36815) with a waiting period that ended on June 3, 2024.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Tommy W. Lee,
Acting Air Force Federal Register Liaison Officer.

[FR Doc. 2024-19179 Filed 8-26-24; 8:45 am]

BILLING CODE 3911-44-P